DEPARTMENT OF ENERGY

Federal Energy Regulatory Commission

Combined Notice of Filings #1

Take notice that the Commission received the following electric corporate filings:

Docket Numbers: EC23-58-000.

Applicants: Montana-Dakota Utilities Co.

Description: Application for Authorization Under Section 203 of the Federal Power Act of Montana-Dakota Utilities Co.

Filed Date: 3/1/23.

Accession Number: 20230301-5334.

Comment Date: 5 p.m. ET 3/22/23.

Take notice that the Commission received the following Complaints and Compliance filings in EL Dockets:

Docket Numbers: EL21-64-000.

Applicants: James H. Bankston, Jr., et al v. Alabama Public Service Commission.

Description: James H. Bankston, Jr., et al. submits Supplemental Petition for Enforcement under the Public Utility Regulatory Policies Act of 1978.

Filed Date: 3/1/23.

Accession Number: 20230301-5323.

Comment Date: 5 p.m. ET 3/31/23.

Take notice that the Commission received the following electric rate filings:

Docket Numbers: ER22-2844-002.

Applicants: Duke Energy Carolinas, LLC.

Description: Compliance filing: Duke Energy Florida, LLC submits tariff filing per 35: DEF-Second Compliance Filing (ProCo) to be effective 12/31/9998.

Filed Date: 3/1/23.

Accession Number: 20230301-5258.

Comment Date: 5 p.m. ET 3/22/23.

Docket Numbers: ER23-512-002.

Applicants: PJM Interconnection, L.L.C.

Description: Tariff Amendment: Amendment to AD2-115 Agreement to Amend in ER23-512 Re: Effective Date to be effective 1/30/2023.

Filed Date: 3/2/23.

Accession Number: 20230302-5043.

Comment Date: 5 p.m. ET 3/23/23.

Docket Numbers: ER23-886-001.

Applicants: PJM Interconnection, L.L.C.

Description: Tariff Amendment: Amendment of Amended ISA, SA No. 5258; Queue No. AC1-085 in Docket No. ER23-886 to be effective 3/19/2023.

Filed Date: 3/1/23.

Accession Number: 20230301-5266.

Comment Date: 5 p.m. ET 3/22/23.

Docket Numbers: ER23-887-001.

Applicants: PJM Interconnection, L.L.C.

Description: Tariff Amendment: Amendment of IISA, SA No. 5885; Queue No. AF1-123/124/125 in Docket No. ER23-887 to be effective 3/19/2023.

Filed Date: 3/2/23.

Accession Number: 20230302-5008.

Comment Date: 5 p.m. ET 3/23/23.

Docket Numbers: ER23-1209-000.

Applicants: California Independent System Operator Corporation.

Description: Petition for Approval of Disposition of Penalty Assessment Proceeds and non-Refundable Interconnection Financial Security of the California Independent System Operator Corporation.

Filed Date: 3/1/23.

Accession Number: 20230301-5286.

Comment Date: 5 p.m. ET 3/22/23.

Docket Numbers: ER23-1210-000.

Applicants: RS Cogen, LLC.

Description: Tariff Amendment: Notice of Cancellation of Market-Based Rate Tariff to be effective 3/31/2023.

Filed Date: 3/2/23.

Accession Number: 20230302-5003.

Comment Date: 5 p.m. ET 3/23/23.

Docket Numbers: ER23-1211-000.

Applicants: Headwaters Wind Farm II LLC.

Description: Baseline eTariff Filing: Rate Schedule Baseline Filing to be effective 3/3/2023.

Filed Date: 3/2/23.

Accession Number: 20230302-5006.

Comment Date: 5 p.m. ET 3/23/23.

Docket Numbers: ER23-1212-000.

Applicants: PJM Interconnection, L.L.C.

Description: § 205(d) Rate Filing: Original ISA, Service Agreement No. 6815; Queue No. AE2-344 to be effective 2/1/2023.

Filed Date: 3/2/23.

Accession Number: 20230302-5027.

Comment Date: 5 p.m. ET 3/23/23.

Docket Numbers: ER23-1214-000.

Applicants: Stones DR, LLC.

Description: § 205(d) Rate Filing: Notice of Succession and Revisions to MBR Tariff, Request for Waiver to be effective 3/3/2023.

Filed Date: 3/2/23.

Accession Number: 20230302-5030.

Comment Date: 5 p.m. ET 3/23/23.

Docket Numbers: ER23-1215-000.

Applicants: PJM Interconnection, L.L.C.

Description: § 205(d) Rate Filing: Amendment to ISA, Service Agreement No. 6280; Queue No. AD1-101 to be effective 5/1/2023.

Filed Date: 3/2/23.

Accession Number: 20230302-5031.

Comment Date: 5 p.m. ET 3/23/23.

Docket Numbers: ER23-1216-000.

Applicants: Southwest Power Pool, Inc.

Description: § 205(d) Rate Filing: Revisions to Attachment AA Regarding Deficiency Payment to be effective 5/2/2023.

Filed Date: 3/2/23.

Accession Number: 20230302-5087.

Comment Date: 5 p.m. ET 3/23/23.

Docket Numbers: ER23-1217-000.

Applicants: Midwest Generation, LLC.

Description: § 205(d) Rate Filing: Proposed Revisions to Reactive Service Rate Schedule to be effective 6/1/2023.

Filed Date: 3/2/23.

Accession Number: 20230302-5088.

Comment Date: 5 p.m. ET 3/23/23.

Docket Numbers: ER23-1218-000.

Applicants: Southwest Power Pool, Inc.

Description: § 205(d) Rate Filing: Revisions to Attachment AA to Add the Sufficiency Valuation Curve Method to be effective 5/2/2023.

Filed Date: 3/2/23.

Accession Number: 20230302-5107.

Comment Date: 5 p.m. ET 3/23/23.

Docket Numbers: ER23-1219-000.

Applicants: PJM Interconnection, L.L.C.

Description: § 205(d) Rate Filing: ISA, SA No. 6816; Queue No. AF1-271A to be effective 2/1/2023.

Filed Date: 3/2/23.

Accession Number: 20230302-5108.

Comment Date: 5 p.m. ET 3/23/23.

Docket Numbers: ER23-1220-000.

Applicants: High Point Solar LLC.

Description: Baseline eTariff Filing: High Point Solar LLC, Market Based Rate Tariff to be effective 5/2/2023.

Filed Date: 3/2/23.

Accession Number: 20230302-5110.

Comment Date: 5 p.m. ET 3/23/23.

Docket Numbers: ER23-1221-000.

Applicants: Duquesne Light Company, PJM Interconnection, L.L.C.

Description: § 205(d) Rate Filing: Duquesne Light Company submits tariff filing per 35.13(a)(2)(iii: Duqeusne revisions to OATT Att. H-17A re Beaver Valley Deactivation Trans Proj to be effective 5/1/2023.

Filed Date: 3/2/23.

Accession Number: 20230302-5118.

Comment Date: 5 p.m. ET 3/23/23.

Docket Numbers: ER23-1222-000.

Applicants: Duquesne Light Company, PJM Interconnection, L.L.C.

Description: § 205(d) Rate Filing: Duquesne Light Company submits tariff filing per 35.13(a)(2)(iii: Duqeusne revisions to OATT Att. H-17A re Dravosburg-Elrama Expansion Project to be effective 5/1/2023.

Filed Date: 3/2/23.

Accession Number: 20230302-5124.

Comment Date: 5 p.m. ET 3/23/23.

Docket Numbers: ER23-1223-000.

Applicants: Midcontinent Independent System Operator, Inc.

Description: § 205(d) Rate Filing: 2023-03-02_System-wide UCAP/ISAC Ratio Enhancement to be effective 5/31/2023.

Filed Date: 3/2/23.

Accession Number: 20230302-5127.

Comment Date: 5 p.m. ET 3/23/23.

Docket Numbers: ER23-1224-000.

Applicants: AEP Texas Inc.

Description: § 205(d) Rate Filing: AEPTX-City of Brownsville, Texas Interconnection Agreement to be effective 2/14/2023.

Filed Date: 3/2/23.

Accession Number: 20230302-5131.

Comment Date: 5 p.m. ET 3/23/23.

Docket Numbers: ER23-1225-000.

Applicants: Southwest Power Pool, Inc.

Description: § 205(d) Rate Filing: 1148R33 American Electric Power NITSA NOAs to be effective 2/1/2023.

Filed Date: 3/2/23.

Accession Number: 20230302-5132.

Comment Date: 5 p.m. ET 3/23/23.

Docket Numbers: ER23-1226-000.

Applicants: High Point Solar LLC.

Description: Baseline eTariff Filing: High Point Solar LLC SFA with EcoGrove Wind LLC to be effective 3/3/2023.

Filed Date: 3/2/23.

Accession Number: 20230302-5135.

Comment Date: 5 p.m. ET 3/23/23.

Docket Numbers: ER23-1227-000.

Applicants: PJM Interconnection, L.L.C.

Description: § 205(d) Rate Filing: ISA, SA No. 6668; Queue #AF1-120 to be effective 2/3/2023.

Filed Date: 3/2/23.

Accession Number: 20230302-5136.

Comment Date: 5 p.m. ET 3/23/23.

Take notice that the Commission received the following public utility holding company filings:

Docket Numbers: PH23-6-000.

Applicants: TriSummit Utilities Inc.

Description: TriSummit Utilities Inc. submits FERC 65-A Exemption Notification.

Filed Date: 3/1/23.

Accession Number: 20230301-5340.

Comment Date: 5 p.m. ET 3/22/23.

Docket Numbers: PH23-7-000.

Applicants: HQI US Holding LLC.

Description: HQI US Holding LLC submits FERC-65A Notice of Change in Fact to Waiver Notification.

Filed Date: 3/2/23.

Accession Number: 20230302-5149.

Comment Date: 5 p.m. ET 3/23/23.

Take notice that the Commission received the following qualifying facility filings:

Docket Numbers: QF23-751-000.

Applicants: Dallman Solar Fuel, LLC.

Description: Form 556 of Dallman Solar Fuel, LLC.

Filed Date: 3/2/23.

Accession Number: 20230302-5113.

Comment Date: 5 p.m. ET 3/23/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2023.
Debbie-Anne A. Reese,
Deputy Secretary.

[FR Doc. 2023-04747 Filed 3-7-23; 8:45 am]

BILLING CODE 6717-01-P